DEPARTMENT OF TRANSPORTATION

Federal Highway Administration

Environmental Impact Statement: Clark County, Nevada

AGENCY: Federal Highway Administration (FHWA), DOT.

ACTION: Notice of intent.

SUMMARY: The FHWA is issuing this notice to advise the public that an environmental impact statement will be prepared for a proposed freeway corridor improvement project in the City of Las Vegas, Clark County, Nevada.

FOR FURTHER INFORMATION CONTACT: Mr. Ted Bendure, Environmental Program Manager, Federal Highway Administration, 705 N. Plaza, Suite 220, Carson City, NV 89701; Telephone: 775-687-5322, E-mail: ted.bendure@fhwa.dot.gov.

SUPPLEMENTARY INFORMATION: The FHWA, in cooperation with the Nevada Department of Transportation, will prepare an environmental impact statement (EIS) on a proposal to improve a portion of the Interstate 15 Corridor near the downtown area in the City of Las Vegas, Clark County, Nevada. The proposed project would involve improvements to the I-15 Corridor and major street connections beginning south of the I-15/Sahara Avenue Interchange at Milepost 39.15 and continue to the I-15/US 95 Interchange (Milepost 42.85) on the north end. The project covers a total distance of approximately 3.7 miles on I-15.

The project (known as Project NEON) analyzes transportation needs and improvement opportunities in the I-15 freeway corridor section south of the I-15/US System Interchange. The I-15 Corridor serves the Western United States by linking southern California and Salt Lake City, and points to the north. The I-15 Corridor also serves the Las Vegas Valley as a primary transportation link through central Las Vegas. Significant population growth in the Las Vegas Valley, projected to increase by approximately 60 percent from 2003 to 2030, will increase traffic volumes and local commuter traffic passing through this corridor. The projected population growth, associated development, and increasing tourism and gaming will place significant demand on the I-15 Corridor and connections to US 95. The purpose of this project is to meet the short- and long-term transportation needs of Las Vegas and motorists traveling through Las Vegas, specifically to provide improved transportation in response to regional growth, decrease congestion, enhance mobility, and provide access to the downtown area. Both existing congestion and projected increases in traffic necessitate consideration of the proposed improvements.

The envisioned project includes several major components, including: adding lanes and improving freeway and mass transit operations between Sahara Avenue and the I-15/US 95 Interchange; reconstructing the I-15/Charleston Boulevard Interchange; providing new I-15 freeway access to the City of Las Vegas's Downtown Redevelopment Area; extending Martin Luther King Boulevard over I-15 and Charleston Boulevard to connect with Industrial Road; and potential grade separation improvements to Oakey Boulevard east of the I-15 Corridor. The EIS will consider the effects of the proposed project, the No Action alternative, and other alternatives to the proposed project.

Letters describing the proposed action and soliciting comments will be sent to appropriate Federal, State, and local agencies, and to private organizations and citizens who have previously expressed or are known to have interest in this project. A project scoping meeting will be held in Las Vegas, Nevada on February 23, 2005 with the appropriate agencies and the general public. In addition, public information meetings will be held throughout the duration of the project and a public hearing will be held for the draft EIS. Public notices will be given announcing the time and place of the public meetings and the hearing. The draft EIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Research, Planning and Construction. The regulation implementing Executive Order 12372 regarding intergovernmental consultation on Federal programs and activities apply to this program.)

Authority: 23 U.S.C. 315; 23 CFR 771.123

Issued on: February 4, 2005.
Greg Novak,
Acting Assistant Division Administrator, FHWA, Nevada Division.

[FR Doc. 05-2567 Filed 2-9-05; 8:45 am]

BILLING CODE 4910-22-M